RAILROAD RETIREMENT BOARD

Agency Forms Submitted for OMB Review

Summary: In accordance with the Paperwork Reduction of Act of 1995 (44 U.S.C. chapter 35), the Railroad Retirement Board (RRB) has submitted the following proposal(s) for the collection of information to the Office of Management and Budget for review and approval.

Summary of Proposal(s)

(1) Collection title: Survivor Questionnaire.

(2) Form(s) submitted: RL-94-F.

(3) OMB Number: 3220-0032.

(4) Expiration date of current OMB clearance: 6/30/2003.

(5) Type of request: Extension of a currently approved collection.

(6) Respondents: Individuals or households.

(7) Estimated annual number of respondents: 8,000.

(8) Total annual responses: 8,000.

(9) Total annual reporting hours: 1,391.

(10) Collection description: Under section 6 of the Railroad Retirement Act, benefits are payable to the survivors or the estates of deceased railroad employees. The collection obtains information about the survivors if any, the payment of burial expenses and administration of estate when unknown to the Railroad Retirement Board. The information is used to determine whether and to whom benefits are payable.

Additional Information or Comments: Copies of the forms and supporting documents can be obtained from Chuck Mierzwa, the agency clearance officer (312-751-3363).

Comments regarding the information collection should be addressed to Ronald J. Hodapp, Railroad Retirement Board, 844 North Rush Street, Chicago, Illinois, 60611-2092 and to the OMB Desk Officer for the RRB, at the Office of Management and Budget, Room 10230, New Executive Office Building, Washington, DC 20503.

Chuck Mierzwa,
Clearance Officer.

[FR Doc. 03-8871 Filed 4-10-03; 8:45 am]

BILLING CODE 7905-01-M